DEPARTMENT OF THE INTERIOR

Office of Surface Mining Reclamation and Enforcement

Notice of Proposed Information Collection for 1029-0124

AGENCY: Office of Surface Mining Reclamation and Enforcement.

ACTION: Notice and request for comments.

SUMMARY: In compliance with the Paperwork Reduction Act of 1995, the Office of Surface Mining Reclamation and Enforcement (OSM) is announcing that the information collection request for Revegetation: Standards for Success, required for surface mining activities and underground mining activities at 30 CFR 816.116 and 817.116, has been forwarded to the Office of Management and Budget (OMB) for review and comment. The information collection request describs the nature of the information collection and the expected burden and cost.

DATES: OMB has up to 60 days to approve or disapprove the information collections but may respond after 30 days. Therefore, public comments should be submitted to OMB by October 18, 2004, in order to be assured of consideration.

FOR FURTHER INFORMATION CONTACT: To request a copy of the information collection request, explanatory information and related form, contact John A. Trelease at (202) 208-2783, or electronically to jtreleas@osmre.gov.

SUPPLEMENTARY INFORMATION: The Office of Management and Budget (OMB) regulations at 5 CFR 1320, which implement provisions of the Paperwork Reduction Act of 1995 (Pub. L. 104-13), require that interested members of the public and affected agencies have an opportunity to comment on information collection and recordkeeping activities [see 5 CFR 1320.8(d)]. This notice identifies information collections at 30 CFR 816.116 and 817.116 that OSM will be submitting to OMB.

OSM previously received approval for collection activities for 30 CFR parts 816 and 817. They were assigned clearance number 1029-0047. However, OSM inadvertently omitted in the clearance request existing collection requirements for §§ 816.116 and 817.116. These sections require State regulatory authorities to develop success standards and statistically valid sampling techniques, and for operators to document revegetation success for Phase III bond release. OSM requested and received an emergency clearance from OMB for the collection activities in §§ 816.116 and 817.116. They were assigned clearance number 1029-0124. Now, OSM is seeking a 3-year term of approval for these collections.

An agency may not conduct or sponsor, and a person is not required to respond to, a collection of information unless it displays a currently valid OMB control number. The OMB control number for this collection of information is 1029-0124. However, upon approval by OMB, OSM will submit a correction to OMB requesting that this collection be incorporated into the collection authority for 30 CFR parts 816 and 817 (1029-0047).

As required under 5 CFR 1320.8(d), a Federal Register notice soliciting comments on this collection of information was published on April 20, 2004 (69 FR 21158). No comments were received. This notice provides the public with an additional 30 days in which to comment on the following information collection activity:

Title: Revegetation: Standards for Success, 30 CFR 816.116 and 817.116.

OMB Control Number: 1029-0124.

Summary: Section 515 and 516 of the surface Mining Control and Reclamation Act of 1977 provides that permittees conducting coal mining operations shall meet all applicable performance standards of the Act. The information collected is used by the regulatory authority in inspecting surface and underground coal mining reclamation activities to ensure that they are revegetated in accordance with applicable State requirements.

Bureau Form Number: None.

Frequency of Collection: Once.

Description of Respondents: Coal mining operators and State regulatory authorities.

Total Annual Responses: 882.

Total Annual Burden Hours: 70,600.

Total Annual Non-Wage Costs: $44,000.

Send comments on the need for the collection of information for the performance of the functions of the agency; the accuracy of the agency's burden estimates; ways to enhance the quality, utility and clarity of the information collection; and ways to minimize the information collection burdens on respondents, such as use of automated means of collections of the information, to the following addresses. Please refer to the appropriate OMB control number in all correspondence.

ADDRESSES: Submit comments to the Office of Information and Regulatory Affairs, Office of Management and Budget, Attention: Department of Interior Desk Officer, by telefax at (202) 395-6566 or via e-mail to OIRA_Docket@omb.eop.gov Also, please send a copy of your comments to John A. Trelease, Office of Surface Mining Reclamation and enforcement, 1951 Constitution Ave, NW., Room 210-SIB, Washington, DC 20240, or electronically to jtreleas@osmre.gov.

Dated: June 28, 2004.
Sarah E. Donnelly,
Acting Chief, Division of Regulatory Support.

[FR Doc. 04-20884 Filed 9-15-04; 8:45 am]

BILLING CODE 4310-05-M